DEPARTMENT OF COMMERCE

International Trade Administration

[C-489-502]

Certain Welded Carbon Steel Standard Pipe and Tube From Turkey: Notice of Final Rescission of Countervailing Duty Administrative Review, In Part

AGENCY: Import Administration, International Trade Administration, Department of Commerce.

DATES: Effective Date: February 8, 2012.

FOR FURTHER INFORMATION CONTACT: Kristen Johnson, AD/CVD Operations, Office 3, Import Administration, International Trade Administration, U.S. Department of Commerce, Room 4014, 14th Street and Constitution Avenue NW., Washington, DC 20230, telephone: (202) 482-4793

SUPPLEMENTARY INFORMATION:

Background

On March 1, 2011, the Department of Commerce (the Department) published a notice of opportunity to request an administrative review of the countervailing duty (CVD) order on certain welded carbon steel pipe and tube from Turkey for the period of review (POR) of January 1, 2010, through December 31, 2010. See Antidumping or Countervailing Duty Order, Finding, or Suspended Investigation; Opportunity to Request Administrative Review, 76 FR 11197 (March 1, 2011). On March 30, 2011, we received a letter from Erbosan Erciyas Boru Sanayi ve Ticaret A.S. (ERBOSAN) requesting that the company's entries for the POR be reviewed by the Department. On April 27, 2011, the Department published the notice of initiation of the administrative review of this CVD order for the POR, which included ERBOSAN.¹ See Initiation of Antidumping and Countervailing Duty Administrative Reviews, 76 FR 23545 (April 27, 2011).

¹ A review of the following companies was also initiated: Borusan Group, Borusan Mannesmann Boru Sanayi ve Ticaret A.S., Borusan Istikbal Ticaret T.A.S., Tosyali dis Ticaret A.S., and Toscelik Profil ve Sac Endustrisi A.S.

On October 27, 2011, the Department requested U.S. Customs and Border Protection (CBP) data on Type 3 entries ² of subject merchandise to the United States produced by ERBOSAN during the POR. See Memorandum to the File from Kristen Johnson, Trade Analyst, AD/CVD Operations, Office 3, regarding “Request for Customs Data in the Countervailing Duty Administrative Review of Certain Welded Carbon Steel Standard Pipe from Turkey,” (October 27, 2011). We reviewed the customs data provided by CBP and found there were no suspended entries of subject merchandise produced by ERBOSAN during the POR.

² A Type 3 entry is an entry of merchandise imported into the United States which is subject to antidumping or countervailing duties, as the case may be, and for which liquidation is suspended until after the completion of an administrative review in which the assessment rate is calculated.

On November 3, 2011, we issued a letter to ERBOSAN explaining that the Department's practice requires there to be a suspended entry during the POR upon which to assess duties in order to conduct an administrative review.³ As such, we requested that ERBOSAN submit evidence demonstrating that the company had a Type 3 entry of subject merchandise to the United States during the CVD POR. We explained that if ERBOSAN was unable to provide such documentation, the Department will find that there are no suspended entries of subject merchandise produced by ERBOSAN against which to assess duties and will rescind the 2010 CVD administrative review with respect to the company. See Letter from the Department to ERBOSAN regarding “Entry Documentation,” (November 3, 2011). On November 17, 2011, ERBOSAN reported that it did not have entry documentation because the exports of subject merchandise to the United States during the POR were to an unrelated importer. See ERBOSAN's “Response to Entry Documentation Request,” (November 17, 2011) at 2.

³ See, e.g., Certain Hot-Rolled Carbon Steel Flat Products from India: Final Results of Antidumping Duty Administrative Review, 76 FR 42679 (July 19, 2011), and accompanying Issues and Decision Memorandum at Comment 1; see also Certain Cut-to-Length Carbon-Quality Steel Plate Products from Italy: Final Results and Partial Rescission of Antidumping Duty Administrative Review, 71 FR 39299, 39302 (July 12, 2006), and Portable Electric Typewriters from Japan; Final Results of Antidumping Duty Administrative Review, 56 FR 14072, 14073 (April 5, 1991).

On December 20, 2011, we published the notice of preliminary rescission of this CVD duty administrative review with respect to ERBOSAN, and invited interested parties to comment on the preliminary decision. See Certain Welded Carbon Steel Standard Pipe and Tube from Turkey: Intent to Rescind Countervailing Duty Administrative Review, In Part, 76 FR 78886 (December 20, 2011) (Preliminary Rescission). We received comments from Wheatland Tube Company (the petitioner) and ERBOSAN on January 9, 2012. All comments raised by the parties are addressed in the Issues and Decision Memorandum, which is hereby adopted by this notice. The Issues and Decision Memorandum is a public document and is on file electronically via IA ACCESS, which is available to the public in the Department's Central Record Unit. In addition, a complete version of the Issues and Decision Memorandum can be accessed directly on the internet at http://www.trade.gov/ia/. The signed Issues and Decision Memorandum and the electronic version of the Issues and Decision Memorandum are identical in content.

Partial Rescission of Review

Because there are no suspended entries of subject merchandise produced by ERBOSAN for the CVD POR, we determine to rescind the review for ERBOSAN. In Allegheny Ludlum Corp. v. United States, 346 F.3d 1368 (Fed. Cir. 2003), the Court of Appeals for the Federal Circuit upheld the Department's practice of rescinding annual reviews when there are no entries of subject merchandise during the POR, which is identical to this current administrative review.

This administrative review will remain in effect for all other companies for which the review was initiated, namely the Borusan Group, Borusan Mannesmann Boru Sanayi ve Ticaret A.S., Borusan Istikbal Ticaret T.A.S., Tosyali dis Ticaret A.S., and Toscelik Profil ve Sac Endustrisi A.S.

We are issuing and publishing this decision and notice in accordance with sections 751(a)(1) and 777(i)(1) of the Tariff Act of 1930, as amended, and 19 CFR 351.213(d)(4).

Dated: February 2, 2012.
Christian Marsh,
Deputy Assistant Secretary for Antidumping and Countervailing Duty Operations.

[FR Doc. 2012-2919 Filed 2-7-12; 8:45 am]

BILLING CODE 3510-DS-P